DEPARTMENT OF HOMELAND SECURITY

U.S. Customs and Border Protection

19 CFR Part 149

[USCBP-2016-0040]

RIN 1651-AA98

Definition of Importer Security Filing Importer

AGENCY: U.S. Customs and Border Protection, DHS.

ACTION: Notice of proposed rulemaking.

SUMMARY: The Importer Security Filing and Additional Carrier Requirements regulations were implemented in 2009 as an interim final rule to improve CBP's ability to identify high-risk shipments in order to prevent smuggling and improve cargo safety and security. These regulations require certain cargo information to be submitted to CBP via an Importer Security Filing (ISF) before the cargo is loaded on a vessel that is destined to the United States. These regulations fulfill the requirements of section 203 of the SAFE Port Act of 2006 and section 343 of the Trade Act of 2002, as amended by the Maritime Transportation Security Act of 2002. The ISF Importer is the party that is required to file the ISF. This notice of proposed rulemaking (NPRM) proposes to expand the definition of ISF Importer for certain types of shipments to ensure that the party that has the best access to the required information will be the party that is responsible for filing the ISF.

DATES: Comments must be received on or before September 6, 2016.

FOR FURTHER INFORMATION CONTACT: Peyman Jamshidi, Program Manager, Vessel Manifest and Importer Security Filing, Office of Cargo and Conveyance Security, Office of Field Operations by email at: PEYMAN.JAMSHIDI@cbp.dhs.gov.

ADDRESSES: You may submit comments, identified by docket number, by one of the following methods:

• Federal eRulemaking Portal: http://www.regulations.gov. Follow the instructions for submitting comments via docket number USCBP-2016-0040.

• Mail: Border Security Regulations Branch, Regulations and Rulings, Office of International Trade, U.S. Customs and Border Protection, 90 K Street NE., 10th Floor, Washington, DC 20229-1177.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may also be inspected during regular business days between the hours of 9:00 a.m. and 4:30 p.m. at the Office of International Trade, Regulations and Rulings, U.S. Customs and Border Protection, 90 K Street NE., 10th Floor, Washington, DC 20229-1177. Arrangements to inspect submitted comments should be made in advance by calling Mr. Joseph Clark at (202) 325-0118.

SUPPLEMENTARY INFORMATION:

Background

After the terrorist attacks on September 11, 2001, CBP amended its regulations to require vessel carriers to electronically submit certain advance cargo information, including cargo declarations, to CBP no later than 24 hours before the cargo is laden aboard a vessel at a foreign port. See 19 CFR 4.7 and 4.7a. The rule was published in the Federal Register (67 FR 66318) on October 31, 2002. Its purpose was to enable CBP to identify high-risk cargo before the vessel arrived in the United States.

Section 203 of the Security and Accountability for Every Port Act of 2006 (Pub. L. 109-347, 120 Stat. 1884 (SAFE Port Act)) directed the Secretary of Homeland Security, acting through the Commissioner of CBP, to promulgate regulations to “require the electronic transmission to the Department [of Homeland Security] of additional data elements for improved high-risk targeting, including appropriate security elements of entry data, as determined by the Secretary, to be provided as advanced information with respect to cargo destined for importation into the United States prior to loading of such cargo on vessels at foreign seaports.” Pursuant to this Act, and section 343(a) of the Trade Act of 2002 (19 U.S.C. 2071 note), CBP published an NPRM in the Federal Register on January 2, 2008 (73 FR 90), proposing to require importers and carriers to submit additional information pertaining to maritime cargo before the cargo is loaded on a vessel that is destined to the United States. The trade gave the proposed rule the shorthand name “10 + 2”, which references the number of advance data elements CBP was proposing to collect. Importers, described in the proposed rule as Importer Security Filing Importers, would generally be required to submit 10 additional data elements (the 10 of “10 + 2”). Carriers would generally be required to submit two additional data elements (the 2 of “10 + 2”).

On November 25, 2008, CBP published an interim final rule and solicitation of comments in the Federal Register (73 FR 71730, CBP Decision 08-46). The interim final rule was effective on January 26, 2009. However, a delayed compliance period of at least 12 months was provided to allow industry sufficient time to comply with the new requirements.

The interim final rule finalized most of the provisions of the NPRM, including all the provisions relating to the carrier requirements. The only portions of the NPRM that were not finalized were the six importer data elements for which CBP provided some flexibility regarding the time and/or manner of compliance. CBP solicited public comments on the flexibilities provided. CBP also invited comments on the revised Regulatory Assessment and Final Regulatory Flexibility Analysis. CBP has not yet published a final rule addressing the flexibilities and the Regulatory Assessment and Final Regulatory Flexibility Analysis.

I. Summary of ISF Importer Requirements

The interim final rule added a new part 149 to the CBP regulations, entitled Importer Security Filing. The Importer Security Filing regulations require ISF Importers, as defined in 19 CFR 149.1, to transmit an ISF to CBP, for cargo other than foreign cargo remaining on board (FROB), no later than 24 hours before cargo is laden aboard a vessel destined to the United States. The transmission of the ISF filing for FROB is required any time prior to lading.

ISF Importers, or their agents, must submit 10 data elements to CBP for shipments consisting of goods intended to be entered into the United States and goods intended to be delivered to a foreign trade zone (FTZ). See 19 CFR 149.3(a). ISF Importers, or their agents, must submit five data elements to CBP for shipments consisting entirely of FROB and shipments consisting entirely of goods intended to be transported as Immediate Exportation (IE) or Transportation and Exportation (T&E) in-bond shipments. See 19 CFR 149.3(b).

II. Proposed Amendment

This rulemaking proposes to expand the definition of the Importer Security Filing (ISF) Importer. Currently, an ISF Importer is generally defined in 19 CFR 149.1 as the party causing goods to arrive within the limits of a port in the United States by vessel.

The regulation provides that generally the ISF Importer is the goods' owner, purchaser, consignee, or agent such as a licensed customs broker. However, the regulation limits the definition of ISF Importer to certain named parties for foreign cargo remaining on board (FROB), immediate exportation (IE), and transportation and exportation (T&E) in-bond shipments, and for merchandise being entered into a foreign trade zone (FTZ). For FROB cargo, the regulation provides that the ISF Importer is the carrier; for IE and T&E in-bond shipments, and goods to be delivered to an FTZ, the regulation provides that the ISF Importer is the party filing the IE, T&E, or FTZ documentation.

Based on input from the trade as well as CBP's analysis, CBP has concluded that these limitations do not reflect commercial reality and, in some cases, designate a party as the ISF Importer even though that party has no commercial interest in the shipment and limited access to the ISF data. Therefore, as explained below, CBP is proposing to expand the definition of ISF Importer for FROB cargo, for IE and T&E shipments and for goods to be delivered to a FTZ.

1. Foreign Cargo Remaining on Board (FROB)

Under the current definition, the ISF Importer for FROB shipments is the carrier. The interim final rule clarified that the carrier means the international carrier arriving in the United States, i.e., vessel operating carrier. See 73 FR 71743. The rationale for requiring the vessel operating carrier to provide the ISF for FROB shipments was that ultimately it is the vessel operating carrier that decides to transport the cargo to the United States.

There is still much debate within the shipping community about who should be the ISF importer for FROB shipments. This debate stems from the relationship between vessel operating carriers and non-vessel operating common carriers (NVOCCs).¹ When a party wants to ship goods on a vessel, the party can either book the shipment directly with the vessel operating carrier or it can use an NVOCC who acts as an intermediary between the party shipping the goods and the vessel operating carrier.

¹ A non-vessel operating common carrier (NVOCC) means a common carrier that does not operate the vessels by which the ocean transportation is provided, and is a shipper in its relationship with an ocean common carrier. See 19 CFR 4.7(b)(3)(ii).

When a party books a FROB shipment directly with a vessel operating carrier, the vessel operating carrier has direct access to the required ISF data and is able to file the ISF information with CBP. However, when a party uses an NVOCC, the vessel operating carrier frequently does not have access to the required ISF data elements. This is because the NVOCC may not want to share confidential business information with the vessel operating carrier, a potential competitor.

However, under the current definition of ISF Importer, the vessel operating carrier is always the ISF Importer for FROB shipments, even though it may not have access to the required information. In response to comments to the interim final rule, CBP addressed the issue of the NVOCC not sharing necessary ISF information with the vessel operating carrier by clarifying that the NVOCC can submit the ISF directly to CBP, if it does so as the vessel operating carrier's agent. See 73 FR 71744. Based on CBP's experience with the ISF program, CBP has concluded that the procedure of having the NVOCC act as the agent of the vessel operating carrier for FROB shipments is not effective. The current requirement has not facilitated the sharing of necessary ISF information between NVOCCs and vessel operating carriers and has not resulted in the filing of accurate information. Rather, this procedure has resulted in unclear lines of responsibility and has hampered CBP's enforcement of the ISF requirements.

In an effort to increase compliance and to ensure that the party that has direct access to ISF information is the party responsible for submitting the ISF to CBP, CBP is proposing to broaden the definition of an ISF Importer for FROB shipments to include NVOCCs. This change is consistent with the requirement of the SAFE Port Act, which provides that a requirement to provide information will be imposed on the party most likely to have direct knowledge of that information.²

² The SAFE Port Act requires CBP to follow the parameters listed in the Trade Act of 2002, which provides that “the requirement to provide particular information shall be imposed on the party most likely to have direct knowledge of that information. Where requiring information from the party with direct knowledge of that information is not practicable, the regulations shall take into account how, under ordinary commercial practices, information is acquired by the party on which the requirement is imposed, and whether and how such party is able to verify the information. Where information is not reasonably verifiable by the party on which a requirement is imposed, the regulations shall permit that party to transmit information on the basis of what it reasonably believes to be true.”

Broadening the definition of ISF Importer to include NVOCCs is also consistent with the general definition that the ISF Importer means the party causing the goods to arrive within the limits of a port in the United States by vessel. The NVOCC acts as the party booking the shipment aboard the carrier and typically has advance knowledge of the voyage's itinerary, i.e., whether the vessel will enter a U.S. port. By booking the shipment, the NVOCC is the party causing the goods to arrive in the United States. In these instances, not only will the NVOCC be the party most able to obtain the required ISF information, but it will be the party that causes the goods to arrive within the limits of a port in the United States as FROB cargo.

In some circumstances, the vessel operating carrier would be the party that causes the goods to arrive in the United States despite the NVOCC having booked the shipment. An example would be when an NVOCC books a shipment not initially scheduled to arrive in the United States, but the vessel is diverted to the United States by the vessel operating carrier. If the cargo remains on board the vessel at the U.S. port and is not discharged until it arrives at the originally scheduled foreign destination port, this would create FROB cargo. In this situation, the vessel operating carrier would be the party that caused the cargo to arrive in the United States and thus the party responsible for filing the ISF.

2. IE, T&E, and FTZ Cargo

As provided in 19 CFR 149.1(a), the ISF Importer for IE and T&E in-bond shipments and for shipments of goods to be delivered to an FTZ is the party that files the IE, T&E, or FTZ documentation with CBP. CBP believes that this definition needs to be broadened because often the party responsible for filing the ISF did not cause the goods to arrive within the limits of a port in the United States, but is a commercially disinterested party at the time of filing and/or may not have access to the required ISF data.

IE and T&E entries are frequently not filed until after the cargo has arrived within limits of a port in the United States. Therefore, there is not yet a party that files the IE or T&E documentation 24 hours prior to lading. In some cases, the party that will be responsible for filing the ISF has not yet been identified. In addition, in some cases, the party that will file the IE or T&E documentation has no commercial interest in the underlying merchandise and that party is a commercially disinterested party 24 hours prior to lading. In these cases, the party filing the IE or T&E entries with CBP did not cause the goods to arrive within the limits of a port in the United States and is not the party most likely to have direct knowledge of the required information. To address this problem, the goods' owner, purchaser, consignee, or agent such as a licensed customs broker will commonly file the ISF-10 required for shipments intended to be entered into the United States, which consists of 10 data elements, as opposed to the ISF-5 required for IE and T&E shipments, which consists of five data elements.

Similarly, for goods being entered into an FTZ, the party filing the FTZ documentation is frequently a commercially disinterested party and/or is not the party most able to obtain the required information. For example, it is common for the FTZ operator to file the FTZ documentation with CBP. However, the FTZ operator is commonly not the party causing the goods to enter the limits of the port in the United States and is a commercially disinterested party 24 hours prior to lading. As a result, the party responsible for filing the ISF is not the party most likely to have direct knowledge of the required information.

To address these issues, CBP is proposing to expand the definition of ISF Importer for IE and T&E in-bond shipments, and for goods to be delivered to an FTZ, to also include the goods' owner, purchaser, consignee, or agent such as a licensed customs broker. These are the same parties that are currently included within the definition of ISF Importer for all shipments other than FROB, IE and T&E in-bond shipments, and goods to be delivered to a FTZ. By broadening the definition to include these parties, the responsibility to file the ISF for IE, T&E, and FTZ shipments will be with the party causing the goods to enter the limits of a port in the United States and most likely to have access to the required ISF information and not with a commercially disinterested party.

III. Regulatory Analysis

A. Executive Orders 12866 and 13563

Executive Orders 13563 and 12866 direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This proposed rule is a “significant regulatory action,” although not an economically significant regulatory action, under section 3(f) of Executive Order 12866. Accordingly, the Office of Management and Budget has reviewed this proposed regulation.

Under current regulations, the party required to submit ISF is the party causing the goods to enter the limits of a port in the United States. However, the regulation limits the definition for FROB, IE, and T&E shipments as well as for merchandise being entered into a FTZ to certain named parties. Based on input from the trade as well as CBP's analysis, CBP has concluded that these limitations do not reflect commercial reality and, in some cases, designate a party as the ISF Importer even though that party has no commercial interest in the shipment and limited access to the ISF data. In some cases, the party responsible may not even be involved in the importation at the time the ISF must be filed. This causes confusion in the trade as to who is responsible for filing the ISF and raises confidentiality concerns as sometimes the private party with the information gives the information to the ISF importer who then sends it to CBP. Therefore, CBP is proposing to expand the definition of ISF Importer for FROB cargo, for IE and T&E shipments and for goods to be delivered to a FTZ. This change is consistent with the requirement of the SAFE Port Act, which provides that the requirement to file the ISF will be imposed on the party most likely to have direct knowledge of that information.

This proposed rule would modify the definition of the ISF Importer for FROB cargo, for IE and T&E shipments, and for goods to be delivered to a FTZ. The current definition causes confusion and confidentiality concerns. The current ISF Importer for FROB shipments is the vessel operating carrier. In cases where the shipper uses an intermediary, i.e., NVOCC, the vessel operating carrier does not have access to certain of the required elements for confidentiality reasons—only the intermediary has this information. In most cases, the NVOCC chooses to file this information directly to CBP, sidestepping the confidentiality concerns, but the legal burden is on the vessel operating carrier so some NVOCCs feel pressured to share this information with the carrier. This regulation would define the ISF Importer for FROB cargo as the vessel operating carrier or the NVOCC. Under this regulation, the NVOCC, rather than the vessel operating carrier, would be the ISF Importer if it is the party in possession of the required information.

Likewise, the definition of ISF Importer causes confusion for IE and T&E cargo. The ISF Importer in these cases is the filer of the IE or T&E documentation. This causes confusion because the IE or T&E documentation often is not created until the cargo arrives in the United States. By contrast, ISF information must be submitted at least 24 hours prior to lading. The proposed rule would expand the definition of ISF Importer for IE and T&E in-bond shipments to also include the goods' owner, purchaser, consignee, or agent such as a licensed customs broker. The proposed rule would also make a similar change to the definition of the ISF Importer of FTZ cargo. With this change, the ISF Importer will be a party with a bona fide interest in the commercial shipment and access to the required data.

The modification of the definition of ISF Importer will simply shift the legal responsibility in some cases for filing the ISF from one party to another for a subset of the total cargo (FROB; IE and T&E; and FTZ cargo). For IE, T&E, and FTZ cargo, the party who is currently required to file the data may not yet even be involved in the transaction at the time the data must be submitted. In these cases another party that has the data such as the owner, purchaser, consignee, or agent often files the data, though they are not legally obligated to file it. Under this proposed rule, these parties who have the data will be included in the definition of the party responsible for filing the data. Since these parties are generally the ones currently submitting this data to CBP, this change will have no significant impact. In some rare instances, this proposed rule may shift the burden of filing from one party to another. For example, since the party currently responsible for filing may not be involved in the transaction at the time the data must be submitted, it could be one of several parties (e.g., the owner, purchaser, consignee, or agent) that actually submits the information. Once this proposed rule is in effect, there will be clarity as to which party is responsible, which could change who actually submits the data. In the vast majority of cases, there will be no change in who submits the data, but it is possible that there will be a change. To the extent that there is a change in who actually submits the ISF data, there will be a shift in the time burden to do so from one party to the other. CBP estimates that submitting this information takes 2.19 hours at a cost of $50.14 per hour.³ This loaded wage rate was estimated by multiplying the Bureau of Labor Statistics' (BLS) 2014 median hourly wage rate for Ship and Boat Captains and Operators ($32.73) by the ratio of BLS' average 2014 total compensation to wages and salaries for Transportation and Material Moving occupations (1.5319), the assumed occupational group for ship and boat captains and operators, to account for non-salary employee benefits.4 5

³ This differs from the estimated wage rate on the most recent supporting statement for this information collection: OMB Control Number 1651-0001, available at: http://www.reginfo.gov/public/do/PRAViewDocument?ref_nbr=201506-1651-003, which is based on outdated data. We will update the wage rate in this supporting statement the next time the ICR is renewed.

⁴ Source of median wage rate: U.S. Bureau of Labor Statistics. Occupational Employment Statistics, “May 2014 National Occupational Employment and Wage Estimates, United States—Median Hourly Wage by Occupation Code: 53-5020.” Updated March 25, 2015. Available at http://www.bls.gov/oes/2014/may/oes_nat.htm#53-0000. Accessed June 15, 2015.

⁵ The total compensation to wages and salaries ratio is equal to the calculated average of the 2014 quarterly estimates (shown under Mar., June, Sep., Dec.) of the total compensation cost per hour worked for Transportation and Material Moving occupations (26.62) divided by the calculated average of the 2014 quarterly estimates (shown under Mar., June, Sep., Dec.) of wages and salaries cost per hour worked for the same occupation category (17.3775). Source of total compensation to wages and salaries ratio data: U.S. Bureau of Labor Statistics. Employer Costs for Employee Compensation. Employer Costs for Employee Compensation Historical Listing March 2004—December 2015, “Table 3. Civilian workers, by occupational group: Employer costs per hours worked for employee compensation and costs as a percentage of total compensation, 2004-2015 by Respondent Type: Transportation and material moving occupations.” June 10, 2015. Available at http://www.bls.gov/ncs/ect/sp/ececqrtn.pdf. Accessed June 15, 2015.

Therefore, to the extent this proposed rule shifts the reporting burden from one party to the other, there will be a corresponding shift of $109.81 in opportunity cost per filing. CBP lacks data showing how often there would be a shift in the actual reporting burden as a result of this rule but it believes it to be very small and possibly zero. CBP requests comment on this matter.

For FROB, the ISF Importer must currently either obtain the information from a third party that has the necessary information or ask that the third party file the information directly to CBP. In some cases, the third party shares this information with the ISF Importer, but it usually files the data directly with CBP for confidentiality reasons. Under the proposed regulation, the party that has access to the ISF information would submit it directly to CBP. Since this third party is generally already providing the ISF information through the current ISF Importer or directly to CBP, this rule will not add a significant burden to these entities. As described above, to the extent that this rule shifts the reporting burden from one party to the other, there will be a corresponding shift of $109.81 in opportunity cost per filing. CBP lacks data showing how often there would be a shift in the actual reporting burden as a result of this rule but it believes it to be very small and possibly zero. CBP requests comment on this matter.

This proposed rule benefits all parties by eliminating the confusion surrounding the responsibility for the submission of ISF information. In addition, this rule would significantly reduce confidentiality concerns that may be caused by the current requirements. This rule would ensure the party with the best access to the information is the party who files the information, which will improve the accuracy of the information CBP uses for targeting. Finally, eliminating a step in the transmission process (sending the ISF information from the third party to the current ISF importer) will result in CBP getting the information sooner. Any extra time can be used for more extensive targeting.

B. Regulatory Flexibility Act

This section examines the impact of the rulemaking on small entities as required by the Regulatory Flexibility Act (5 U.S.C. 603), as amended by the Small Business Regulatory Enforcement and Fairness Act of 1996. A small entity may be a small business (defined as any independently owned and operated business not dominant in its field that qualifies as a small business per the Small Business Act); a small not-for-profit organization; or a small governmental jurisdiction (locality with fewer than 50,000 people).

In the Interim Final Rule establishing the ISF requirements (73 FR 71730; November 25, 2008, CBP Decision 08-46; Docket Number USCBP-2007-0077), CBP concluded that many importers of containerized cargo are small entities. The rule could affect any importer of containerized cargo so it could have an impact on a substantial number of small entities.

This impact, however, is very small. The modification of the definition of ISF Importer will simply shift the legal responsibility in some cases for filing the ISF from one party to another for a subset of the total cargo (FROB; IE and T&E; and FTZ cargo). For IE, T&E, and FTZ cargo, the party who is currently required to file the data may not yet even be involved in the transaction at the time the data must be submitted. In these cases another party such as the owner, purchaser, consignee, or agent often files the data, though they are not legally obligated to file it. Under this proposed rule, these parties will be included in the definition of the party responsible for filing the data. Since these parties are currently submitting this data to CBP, this change will have no significant impact. For FROB, the ISF Importer must currently either obtain the information from a third party that has the necessary information or ask that the third party file the information directly to CBP. In some cases, the third party shares this information with the ISF Importer, but it usually files the data directly with CBP for confidentiality reasons. Under the proposed regulation, CBP is expanding the definition of ISF Importer so that the party that has access to the ISF information would submit it directly to CBP as the ISF Importer. Since this third party is already providing the ISF information through the current ISF Importer or directly to CBP, this proposed rule will not add a significant burden to these entities.

For these reasons, CBP certifies that this rule will not have a significant economic impact on a substantial number of small entities.

C. Unfunded Mandates Reform Act of 1995

Title II of the Unfunded Mandate Reform Act of 1995 (UMRA) requires agencies to assess the effects of their regulatory actions on State, local, and tribal governments and the private sector. This proposed rule is exempt from these requirements under 2 U.S.C. 1503 (Exclusions) which states that UMRA “shall not apply to any provision in a bill, joint resolution, amendment, motion, or conference report before Congress and any provision in a proposed or final Federal regulation that is necessary for the national security or the ratification or implementation of international treaty obligations.”

D. Paperwork Reduction Act

In accordance with the Paperwork Reduction Act of 1995 (44 U.S.C. 3507), an agency may not conduct, and a person is not required to respond to, a collection of information unless the collection of information displays a valid control number assigned by OMB. The collections of information related to this NPRM are approved by OMB under collection 1651-0001.

List of Subjects in 19 CFR Part 149

Arrival, Declarations, Customs duties and inspection, Freight, Importers, Imports, Merchandise, Reporting and recordkeeping requirements, Shipping, Vessels.

Proposed Amendment to the Regulations

For the reasons stated in the preamble, DHS proposes to amend part 149 of title 19 of the Code of Federal Regulations (19 CFR part 149), as set forth below:

PART 149—IMPORTER SECURITY FILING

1. The authority citation for part 149 continues to read as follows:

Authority: 5 U.S.C. 301; 6 U.S.C. 943; 19 U.S.C. 66, 1624, 2071 note.

2. Section 149.1(a) is revised to read as follows:

§ 149.1 Definitions.

(a) Importer Security Filing Importer. For purposes of this part, Importer Security Filing Importer (ISF Importer) means the party causing goods to arrive within the limits of a port in the United States by vessel. For shipments other than foreign cargo remaining on board (FROB), the ISF Importer will be the goods' owner, purchaser, consignee, or agent such as a licensed customs broker. For IE and T&E in-bond shipments, and goods to be delivered to an FTZ, the ISF Importer may also be the party filing the IE, T&E, or FTZ documentation. For FROB cargo, the ISF Importer will be the carrier or the non-vessel operating common carrier.

* * * * *

Dated: June 28, 2016.
Jeh Charles Johnson,
Secretary.

[FR Doc. 2016-15687 Filed 7-5-16; 8:45 am]

BILLING CODE 9111-14-P